RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s)

(1) Collection title: Application for Employee Annuity Under the Railroad Retirement Act.

(2) Form(s) submitted: AA-1, AA-1d, G-204.

(3) OMB Number: 3220-0002.

(4) Expiration date of current OMB clearance: 4/30/2001.

(5) Type of request: Revision of a currently approved collection.

(6) Respondents: Individuals or Households.

(7) Estimated annual number of respondents: 13,400.

(8) Total annual responses: 19,100.

(9) Total annual reporting hours: 11,634.

(10) Collection description: The Railroad Retirement Act provides for payment of age, disability and supplemental annuities to qualified employees. The application and relate forms obtain information about the applicant's family work history, military service, disability benefits from other government agencies and public or private pensions. The information is used to determine entitlement to and the amount of the annuity applied for.

Additional Information or Comments

Copies of the forms and supporting documents can be obtained from Chuck Mierzwa, the agency clearance officer (312-751-3363). Comments regarding the information collection should be addressed to Ronald J. Hodapp, Railroad Retirement Board, 844 North Rush Street, Chicago, Illinois 60611-2092 and the OMB reviewer, Joe Lacke (202-395-7316), Office of Management and Budget, Room 10230, New Executive Office Building, Washington, DC 20503.

Chuck Mierzwa,
Clearance Officer.

[FR Doc. 01-5978 Filed 3-9-01; 8:45 am]

BILLING CODE 7905-01-M